DEPARTMENT OF TRANSPORTATION

Federal Aviation Administration

Notice of Opportunity for Public Comment on Surplus Property Release at Columbia Metropolitan Airport, Columbia, South Carolina

AGENCY: Federal Aviation Administration (FAA), DOT.

ACTION: Notice.

SUMMARY: Under the provisions of Title 49, U.S.C. 47151(d), notice is being given that the Federal Aviation Administration (FAA) is considering a request from the Richland-Lexington Airport District to waive the requirement that a 6.63-acre parcel of surplus property, located at the Columbia Metropolitan Airport be used for aeronautical purposes. Currently, ownership of the property provides for protection of FAR Part 77 surfaces and compatible land use which would continue to be protected with deed restrictions required in the transfer of land ownership.

DATES: Comments must be received on or before February 13, 2014.

ADDRESSES: Documents are available for review by prior appointment at the following location: Atlanta Airports District Office, Attn: Rob Rau, South Carolina Planner, 1701 Columbia Ave., Suite 2-260, College Park, Georgia 30337-2747, Telephone: (404) 305-7004.

Comments on this notice may be mailed or delivered in triplicate to the FAA at the following address: Atlanta Airports District Office, Attn: Rob Rau, South Carolina Planner, 1701 Columbia Ave., Suite 2-260, College Park, Georgia 30337-2747.

In addition, one copy of any comments submitted to the FAA must be mailed or delivered to Dan Mann, A.A.E., Executive Director, Richland-Lexington Airport District at the following address: Columbia Metropolitan Airport, 125 A Summer Lake Drive, West Columbia, South Carolina 29170.

FOR FURTHER INFORMATION CONTACT: Rob Rau, South Carolina Planner, Atlanta Airports District Office, 1701 Columbia Ave., Suite 2-260, College Park, Georgia 30337-2747, (404) 305-7004. The application may be reviewed in person at this same location.

SUPPLEMENTARY INFORMATION: The FAA is reviewing a request by the Richland-Lexington Airport District to release 6.63 acres of surplus property at the Columbia Metropolitan Airport. This property was originally conveyed to the County of Lexington on April 7, 1947 under the powers and authority contained in the provisions of the Surplus Property Act of 1944 and subsequently transferred to the Richland-Lextington Airport District on July 12, 1962. Currently, the surplus property is being used by the Lexington School District Two.

Any person may inspect the request in person at the FAA office listed above under FOR FURTHER INFORMATION CONTACT. In addition, any person may, upon request, inspect the request, notice and other documents germane to the request in person at the Columbia Metropolitan Airport.

Issued in Atlanta, Georgia, on January 7, 2014.
Larry F. Clark,
Assistant Manager, Atlanta Airports District Office, Southern Region.

[FR Doc. 2014-00441 Filed 1-13-14; 8:45 am]

BILLING CODE 4910-13-P